DEPARTMENT OF TRANSPORTATION

Federal Transit Administration

[FTA Docket No. FTA 2022-0017]

Agency Information Collection Activity Under OMB Review: Public Transportation Safety Agency Plan

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before July 25, 2022.

ADDRESSES: Written comments and recommendations for the proposed information collection should be sent within 30 days of publication of this notice to www.reginfo.gov/public/do/PRAMain. Find this particular information collection by selecting “Currently under 30-day Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590, (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On March 22, 2022 FTA published a 60-day notice (87 FR 16306) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: Public Transportation Agency Safety Plan.

OMB Control Number: 2132-0580.

Background: The Public Transportation Agency Safety Plan regulation (49 CFR part 673) establishes requirements for Agency Safety Plans as authorized under 49 U.S.C. 5329(d). The regulation requires States and certain operators of public transportation systems that receive Federal financial assistance under 49 U.S.C. Chapter 53 to develop Agency Safety Plans based on the Safety Management Systems (SMS) approach. The development and implementation of these plans will help ensure that public transportation systems are safe nationwide.

Each Public Transportation Agency Safety Plan must include, at minimum:

• An approval from the recipient's Board of Directors, or an Equivalent Authority;

• Methods for identifying and evaluating safety risks throughout all elements of the recipient's public transportation system;

• Strategies to minimize the exposure of the public, personnel, and property to hazards and unsafe conditions;

• A process and timeline for conducting an annual review and update of the plan;

• Performance targets based on the safety performance measures established in FTA's National Public Transportation Safety Plan;

• Assignment of an adequately trained safety officer who reports directly to the general manager, president, or equivalent officer; and

• A comprehensive safety training program for operations personnel and personnel directly responsible for safety that includes the completion of a safety training program and continuing safety education and training.

• A rail transit agency must include or incorporate by reference in its Agency Safety Plan an emergency preparedness and response plan or procedures.

Information collection requirements associated with this regulation include information collected by the agency to support its internal SMS processes and information collected by recipients to distribute to FTA.

The information collection conducted at the agency level to support internal SMS processes includes the regulatory requirement to maintain:

• Documents that set forth the Agency Safety Plan, including those related to implementing the SMS;

• Results from SMS processes and activities; and

• Documents included in whole, or by reference, that describe the programs, policies, and procedures used to carry out the Agency Safety Plan.

Transit agencies must maintain this documentation for a minimum of three years and must make this documentation available upon request to FTA, other Federal entities having jurisdiction, and the relevant State Safety Oversight Agency, if applicable.

The information collection exchange between FTA and its recipients consists of:

• Annual Certifications and Assurances. FTA requires operators of public transportation systems and States to certify compliance with 49 CFR part 673 through its annual submittal of Certifications and Assurances to FTA.

• Triennial Review Process. FTA incorporated questions specific to the Public Transportation Agency Safety Plan Rule into FTA's existing oversight questionnaire for transit agencies to evaluate areas of compliance.

• State Management Review Process. FTA also ensures compliance with this rule through its existing triennial State Management Review oversight process.

The information collection will continue to help guide transit agency and FTA's safety program priorities.

Respondents: State and local government agencies, including transit agencies.

Estimated Annual Number of Respondents: 755 respondents.

Estimated Annual Burden Hours per Respondent: 335 hours.

Estimated Total Annual Burden: 252,855 hours.

Frequency: Annually.

Nadine Pembleton,
Deputy Associate Administrator, Office of Administration.

[FR Doc. 2022-13413 Filed 6-22-22; 8:45 am]

BILLING CODE 4910-57-P